DEPARTMENT OF LABOR

Office of the Secretary

Submission for OMB Emergency Review; Comment Request

March 21, 2005.

The Department of Labor has submitted the following (see below) information collection request (ICR), utilizing emergency review procedures, to the Office of Management and Budget (OMB) for review and clearance in accordance with the Paperwork Reduction Act of 1995 (Pub. L. 104-13, 44 U.S.C. Chapter 35). OMB approval is requested by April 14, 2005. A copy of this ICR, with applicable supporting documentation, may be obtained by calling the Department of Labor Departmental Clearance Officer, Ira L. Mills (202) 693-4122.

Comments and questions about the ICR listed below should be forwarded to the Office of Information and Regulatory Affairs, Attn: OMB Desk Officer for the Employment and Training Administration, Room 10235, Washington, DC 20503. The Office of Management and Budget is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarify of the information to be collected; and

• Minimize the burden of the collection of information on those who are to respond, including through the use of appropriate automated, electronic, mechanical, or other technological collection techniques or other forms of information technology, e.g., permitting electronic submissions of responses.

Agency: Employment and Training Administration (ETA).

Type of Review: Emergency.

Title: Labor Exchange Reporting System.

OMB Number: 1205-0240.

Affected Public: State, Local, or Tribal Government.

Form/Activity | Total respondents | Frequency | Total responses | Average time per response | Total annual burden hours
ETA 9002 A | 54 | Quarterly | 216 | 346 | 74,641
ETA 9002 B | 54 | Quarterly | 216 | 346 | 74,641
ETA 9002 C | 54 | Quarterly | 216 | 346 | 74,641
ETA 9002 D | 54 | Quarterly | 216 | 346 | 74,641
ETA 9002 E | 54 | Quarterly | 216 | 21 | 4,536
VETS 200 A | 54 | Quarterly | 216 | 346 | 74,641
VETS 200 B | 54 | Quarterly | 216 | 346 | 74,641
VETS 200 C | 54 | Quarterly | 216 | 346 | 74,641
Totals | 54 |  | 1,728 |  | 527,020

Total Burden Cost (capital/startup): $1,825,200.

Total Burden Cost (operating/maintaining): $17,128,164.

Description: States submit quarterly performance data for the Wagner-Peyser-funded public labor exchange through ETA 9002 reports and for Veteran's Employment and Training Services (VETS)-funded labor exchange through VETS 200 reports. The Employment and Training (ET) Handbook No. 406 contains the report forms and provides instructions for completing these reports. The ET Handbook No. 406 contains a total of eight reports (ETA 9002 A, B, C, D, E; VETS 200 A, B, C). The ETA 9002 and VETS 200 reports collect data on individuals who receive core employment and workforce information services through the public labor exchange and VETS-funded labor exchange of the states' One-Stop delivery systems. The current LERS expires in April 2005.

This is a request to revise the current LERS requirements to include data elements necessary for assessing state progress against common measures of performance beginning July 1, 2005. In 2002, under the President's Management Agenda, OMB and other Federal agencies developed a set of common performance measures to be applied to certain Federally-funded employment and training programs with similar strategic goals. Although the common measures are an integral part of ETA's performance accountability system, these measures provide only part of the information necessary to effectively oversee the workforce investment system. ETA will continue to collect from states and grantees data on program activities, participants, and outcomes that are necessary for program management and to convey full and accurate information on the performance of workforce programs to policymakers and stakeholders.

The value of implementing common measures is the ability to describe in a similar manner the core purposes of the workforce system—how many people found jobs; did people stay employed; and did earnings increase. Multiple sets of performance measures have burdened states and grantees as they are required to report performance outcomes based on varying definitions and methodologies. By minimizing the different reporting and performance requirements, common performance measures can facilitate the integration of service delivery, reduce barriers to cooperation among programs, and enhance the ability to assess the effectiveness and impact of the workforce investment system, including the performance of the system in serving individuals facing significant barriers to employment.

This revision to the LERS identifies a minimum level of information collection that is necessary to comply with Equal Opportunity requirements, holds states appropriately accountable for the Federal funds they receive, including common performance measures, and allows the Department to fulfill its oversight and management responsibilities.

Ira L. Mills,
Departmental Clearance Officer/Team Leader.

[FR Doc. 05-6115 Filed 3-28-05; 8:45 am]

BILLING CODE 4510-30-P